DEPARTMENT OF THE TREASURY

Bureau of Alcohol, Tobacco and Firearms

Delegation Order—Delegation of Certain of the Director's Authorities in 27 CFR Part 275

1. Purpose. This order delegates certain of the authorities of the Director to subordinate ATF officers and prescribes the subordinate ATF officers with whom persons file documents which are not ATF forms. Specifically, this order specifies the appropriate ATF officers that are designated in Treasury Decision ATF-422, which revised sections of Part 275 of Title 27 of the Code of Federal Regulations (CFR).

2. Background. Under current regulations, the Director has authority to take final action on matters relating to tobacco products and cigarette papers and tubes. We have determined that certain of these authorities should, in the interest of efficiency, be delegated to a lower organizational level.

3. Delegations. Under the authority vested in the Director, Bureau of Alcohol, Tobacco and Firearms, by Treasury Department Order No. 120-1 (formerly 221), dated June 6, 1972, and by 26 CFR 301.7701-9, this ATF order delegates certain authorities to take final action prescribed in certain sections of Part 275 of Title 27 CFR to subordinate officers. Also, this ATF order prescribes the subordinate officers with whom applications, notices, and reports required by certain sections of Part 275 of Title 27 CFR, which are not ATF forms, are filed. The attached table identifies the regulatory sections, documents and authorized ATF officers. The authorities in the table may not be redelegated. An ATF organization chart showing the directorates and the positions involved in this delegation order has been attached.

Bradley A. Buckles,
Director.

Table of Authorities, Documents To Be Filed, and Authorized Officials
Regulatory section | Officer(s) authorized to act or receive document
§ 275.25 | Inspector or Specialist.
§ 275.85 | Section Chief, National Revenue Center (NRC).
§ 275.86 | Unit Supervisor, NRC, to whom ATF F 2145(5200.11) is sent, and Specialist to certify ATF F 2145(5200.11).
§ 275.106 | Unit Supervisor, NRC, to whom copy of ATF F 3075(5200.9) is sent.
§ 275.111 | Unit Supervisor, NRC, to whom copy of ATF F 2987(5120.32) is sent.
§ 275.115a(e) | Unit Supervisor, NRC.
§ 275.193 | Unit Supervisor, NRC.
§ 275.194 | Unit Supervisor, NRC.
§ 275.196 | Unit Supervisor, NRC.
§ 275.197 | Unit Supervisor, NRC, or Area Supervisor.
§ 275.198 | Inspector, Specialist, or Special Agent.
§ 275.199 | Director, Industry Operations.
§ 275.200 | Unit Supervisor to approve (by affixing the signature of the Director) permits upon the recommendation of the Area Supervisor.
§ 275.203 | Inspector, Specialist, or Special Agent.
§ 275.207 | Unit Supervisor upon the recommendation of the Area Supervisor.
§ 275.208 | Director of Industry Operations.
§ 275.223 | Unit Supervisor, NRC.
§ 275.224 | Unit Supervisor, NRC.
§ 275.225 | Unit Supervisor, NRC.

[FR Doc. 00-17498 Filed 7-10-00; 8:45 am]

BILLING CODE 4810-31-U